SURFACE TRANSPORTATION BOARD

[Docket No. FD 36790]

Norfolk Southern Railway Company—Trackage Rights Exemption—CSXT Transportation, Inc.

Norfolk Southern Railway Company (NSR), a Class I rail carrier, has filed a verified notice of exemption under 49 CFR 1180.2(d)(7) to acquire overhead trackage rights from CSX Transportation, Inc. (CSXT), over an approximately 95-mile CSXT rail line between Falls, Pa., at or near CP River, CSXT milepost QA 2, and Baltimore, Md., including all necessary trackage within CSXT's Bayview Yard, and between the western end of CSXT's Bayview Yard (MP BAL 0.0±) and a connection at MP BAL 0.5± (the Lines).

According to the verified notice, NSR and CSXT have agreed to a Form A Trackage Rights Addendum to their Master Trackage Rights Agreement for the overhead trackage rights.¹ NSR states that the new trackage rights will permit NSR to reroute traffic over the Lines while CSXT's Howard Street Tunnel (HST) in Baltimore is closed for a project that includes clearing the HST for double-stack rail passage. The verified notice states that the trackage rights will provide temporary alternate routes for the duration of the project, which will alleviate potential congestion resulting from the rerouted traffic.² NSR states that the new overhead trackage rights are scheduled to expire when the project is complete and operations through the HST resume.³

¹ NSR has filed a redacted version of the addendum with the verified notice. It has also submitted an executed, unredacted version of the addendum under seal and filed a motion for protective order. That motion will be addressed in a separate decision.

² NSR is also granting CSXT overhead trackage rights over certain NSR routes, for which CSXT has sought authority in CSX Transportation, Inc.—Trackage Rights Exemption—Norfolk Southern Railway, Docket No. FD 36776.

³ To allow the proposed trackage rights to terminate at the time agreed to by NSR and CSXT, NSR concurrently filed a petition for partial revocation of this exemption, in Norfolk Southern Railway Company—Trackage Rights Exemption—CSXT Transportation, Inc., Docket No. FD 36790 (Sub-No. 1). The petition for partial revocation will be addressed in a subsequent decision in that subdocket.

The transaction may be consummated on or after October 30, 2024, the effective date of the exemption (30 days after the verified notice was filed).⁴

⁴ Although the verified notice's captions state that expedited consideration is requested, NSR says its estimated consummation date is October 30, 2024, the standard effective date under the Board's regulations.

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than October 23, 2024 (at least seven days before the exemption becomes effective).

All pleadings, referring to Docket No. FD 36790, must be filed with the Surface Transportation Board either via e-filing on the Board's website or in writing addressed to 395 E Street SW, Washington, DC 20423-0001. In addition, a copy of each pleading must be served on NSR's representative, William A. Mullins, Mullins Law Group PLLC, 2001 L Street NW, Washington, DC 20036.

According to NSR, this action is categorically excluded from environmental review under 49 CFR 1105.6(c)(3) and from historic preservation reporting requirements under 49 CFR 1105.8(b)(3).

Board decisions and notices are available at www.stb.gov.

Decided: October 10, 2024.
By the Board, Scott M. Zimmerman, Acting Director, Office of Proceedings.
Regena Smith-Bernard,
Clearance Clerk.

[FR Doc. 2024-23867 Filed 10-15-24; 8:45 am]

BILLING CODE 4915-01-P